DEPARTMENT OF HOUSING AND URBAN DEVELOPMENT

[Docket No. FR-5603-N-36]

Notice of Submission of Proposed Information Collection to OMB Public Housing Capital Fund Program

AGENCY: Office of the Chief Information Officer, HUD.

ACTION: Notice.

SUMMARY: The proposed information collection requirement described below has been submitted to the Office of Management and Budget (OMB) for review, as required by the Paperwork Reduction Act. The Department is soliciting public comments on the subject proposal.

HUD is revising the Actual Modernization Cost Certificate (AMCC)—HUD Form 53001 contained within the Public Housing Capital Fund Program collection OMB Control Number 2577-0157. The AMCC reports on actual cost of modernization activities upon its completion. The grant type title on the AMCC of Comprehensive Improvement Assistance Program and Comprehensive Grant Program will be changed to Capital Fund Program (CFP). The PHA certification section will have two check mark boxes added for the PHA to certify if the Single Audit Act (SAA) A-133 requirement applies to the CFP grant specified on the AMCC (1-check box for SAA requirement applicable, 1-check box for SAA requirement not applicable). The “HUD Use Only section” will remove “the audited costs agree with the costs shown above” due to numerous PHAs that are not subject to Independent Public Accountant (IPA) audit requirements.

DATES: Comments Due Date: July 9, 2012.

ADDRESSES: Interested persons are invited to submit comments regarding this proposal. Comments should refer to the proposal by name and/or OMB approval Number (2577-0157) and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 Seventh Street SW., Washington, DC 20410; email Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Public Housing Capital Fund Program.

OMB Approval Number: 2577-0157.

Form Numbers: HUD 5370, HUD 53001, HUD 50029, HUD 5460, HUD 52427, HUD 52484, HUD 52832, HUD 52396, HUD 52833, HUD-5087, HUD-51915, HUD-51915-A, HUD-5378, HUD-51971-I-II, HUD-52482, HUD-52483-A, HUD-52485, HUD-52651-A, HUD 52845, HUD 52846, HUD 50030, HUD 51000, HUD 52847, HUD 52849, HUD 52829, HUD 52830, HUD 53015, HUD 51001, HUD 51002, HUD 51003, HUD 51004, HUD 53001, HUD 5372, HUD 5370-EZ, HUD 5084, HUD-52828, HUD-52836, HUD 50071, HUD 5370-C1.

Description of the Need for the Information and Its Proposed Use: HUD is revising the Actual Modernization Cost Certificate (AMCC)—HUD Form 53001 contained within the Public Housing Capital Fund Program collection OMB Control Number 2577-0157. The AMCC reports on actual cost of modernization activities upon its completion. The grant type title on the AMCC of Comprehensive Improvement Assistance Program and Comprehensive Grant Program will be changed to Capital Fund Program (CFP). The PHA certification section will have two check mark boxes added for the PHA to certify if the Single Audit Act (SAA) A-133 requirement applies to the CFP grant specified on the AMCC (1-check box for SAA requirement applicable, 1-check box for SAA requirement not applicable). The “HUD Use Only section” will remove “the audited costs agree with the costs shown above” due to numerous PHAs that are not subject to Independent Public Accountant (IPA) audit requirements.

| Number of respondents | Annual responses | × | Hours per response | Burden hours
Reporting burden | 3,100 | 23.498 |  | 3.646 | 265,617

Total Estimated Burden Hours: 265,617.

Status: Revision of a currently approved collection.

Authority: Section 3507 of the Paperwork Reduction Act of 1995, 44 U.S.C. 35, as amended.

Dated: June 1, 2012.
Colette Pollard,
Department Reports Management Officer, Office of the Chief Information Officer.

[FR Doc. 2012-13777 Filed 6-6-12; 8:45 am]

BILLING CODE 4210-67-P